DEPARTMENT OF AGRICULTURE

Natural Resources Conservation Service

Project: Plum Creek Watershed, Rehabilitation of Flood Retarding Structure (FRS) #18, Spencer County, KY

AGENCY: Natural Resources Conservation Service (NRCS), Department of Agriculture.

ACTION: Notice of a finding of no significant impact.

SUMMARY: Pursuant to section 102(2)(c) of the National Environmental Policy Act of 1969; the Council on Environmental Quality Regulations (40 CFR part 1500); and the Natural Resources Conservation Service, U.S. Department of Agriculture, gives notice than an environmental impact statement is not being prepared for the Plum Creek Watershed, FRS#18, Spencer County, Kentucky.

FOR FURTHER INFORMATION CONTACT: Jacob Kuhn, Acting State Conservationist, Natural Resource Conservation Service, 771 Corporate Drive, Suite 210, Lexington, KY 40503-5479, telephone (859) 224-7350.

SUPPLEMENTARY INFORMATION: The environmental assessment of this federally assisted action indicates that the project will not cause significant local, regional or national impacts on the environment. As a result of these findings, Jacob Kuhn, Acting State Conservationist, has determined that the preparation of an environmental impact statement is not needed.

The purposes of this project are flood control, watershed protection, and structure rehabilitation. The Notice of a Finding of No Significant Impact (FONSI) has been forwarded to the Environmental Protection Agency and to various Federal, State, and local agencies and interested parties. A limited number of copies of the FONSI are available at the above address. Basic data developed during the assessment are on file at the NRCS State Office, Lexington, KY and may be reviewed upon request.

No administrative action on implementation of the proposal will be taken until 30 days after the date of this publication in the Federal Register.

(This activity is listed in the Catalog of Federal Domestic Assistance under No. 10.904, Watershed and Flood Prevention, and is subject to the provision of Executive Order 12372, which requires intergovernmental consultation with State and local officials.)

Dated: November 15, 2006.
Jacob Kuhn,
Acting State Conservationist.

[FR Doc. E6-19774 Filed 11-21-06; 8:45 am]

BILLING CODE 3410-16-P